DEPARTMENT OF TRANSPORTATION

Office of the Secretary

Notice of Applications for Certificates of Public Convenience and Necessity and Foreign Air Carrier Permits Filed Under Subpart B (Formerly Subpart Q) During the Week Ending October 20, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0182.

Date Filed: October 17, 2012.

Due Date for Answers, Conforming Applications, or Motion to Modify Scope: November 7, 2012.

Description: Application of Global Supply Systems Limited (“GSS”) requesting a new or amended foreign air carrier permit to enable GSS, consistent with the open skies, U.S.-European Union (“EU”) Air Transport Agreement, to provide: (i) Foreign scheduled and charter air transportation of property and mail from any point or points behind any Member State of the European Union, via any point or points in any Member State and via any intermediate points to any point or points in the United States and beyond; (ii) foreign scheduled and charter air transportation of property and mail between any point or points in the United States and any point or points in any member of the European Common Aviation Area; (iii) foreign scheduled and charter cargo air tansportation between any point or points in the United States and any point or points; (iv) other charters pursuant to the requirements set forth in the Department's regulations governing charters; and (v) transportation authorized by any additional route rights made available to European Union carriers in the future. GSS also requests (i) exemption authority, to the extent necessary and for an initial period of two years or until the requested permit is issued, to enable it to hold out and provide the service described above; and (ii) such additional or other relief as the Department may deem necessary or appropriate.

Barbara J. Hairston,
Acting Program Manager, Docket Operations, Federal Register Liaison.

[FR Doc. 2012-27801 Filed 11-14-12; 8:45 am]

BILLING CODE 4910-9X-P